DEPARTMENT OF VETERANS AFFAIRS

[OMB Control No. 2900-0165]

Agency Information Collection Activity: Financial Status Report

AGENCY: Debt Management Center, Department of Veterans Affairs.

ACTION: Notice.

SUMMARY: Debt Management Center, Department of Veterans Affairs (VA), is announcing an opportunity for public comment on the proposed collection of certain information by the agency. Under the Paperwork Reduction Act (PRA) of 1995, Federal agencies are required to publish notice in the Federal Register concerning each proposed collection of information, including each proposed revision of a currently approved collection, and allow 60 days for public comment in response to the notice.

DATES: Written comments and recommendations on the proposed collection of information should be received on or before September 8, 2023.

ADDRESSES: Submit written comments on the collection of information through Federal Docket Management System (FDMS) at www.Regulations.gov or to Young Gower, Debt Management Center (189), Department of Veterans Affairs, 1 Federal Drive, Fort Snelling, Minnesota 55111 or email to young.gower@va.gov. Please refer to “OMB Control No. 2900-0165” in any correspondence. During the comment period, comments may be viewed online through FDMS.

FOR FURTHER INFORMATION CONTACT: Maribel Aponte, Office of Enterprise and Integration, Data Governance Analytics (008), 810 Vermont Ave. NW, Washington, DC 20006, (202) 266-4688 or email maribel.aponte@va.gov. Please refer to “OMB Control No. 2900-0165” in any correspondence.

SUPPLEMENTARY INFORMATION: Under the PRA of 1995, Federal agencies must obtain approval from the Office of Management and Budget (OMB) for each collection of information they conduct or sponsor. This request for comment is being made pursuant to section 3506(c)(2)(A) of the PRA.

With respect to the following collection of information, DMC invites comments on: (1) whether the proposed collection of information is necessary for the proper performance of DMC's functions, including whether the information will have practical utility; (2) the accuracy of DMC's estimate of the burden of the proposed collection of information; (3) ways to enhance the quality, utility, and clarity of the information to be collected; and (4) ways to minimize the burden of the collection of information on respondents, including through the use of automated collection techniques or the use of other forms of information technology.

Authority: Public Law 104-13; 5 U.S.C. 5514; 38 U.S.C. 5302; 38 U.S.C. 5314; 31 U.S.C. 3711; 38 U.S.C. 3716; 38 U.S.C. 3717; 38 U.S.C. 3718; 38 U.S.C. 5316.

Title: Financial Status Report, VA Form 5655.

OMB Control Number: 2900-0165.

Type of Review: Revision of a currently approved collection.

Abstract: The major use of the form is to document and support eligibility determinations for waivers of collection, for the consideration of compromise offers, or to document information to assist in developing repayment plans.

Affected Public: Individuals and households.

Estimated Annual Burden: 33,335.

Estimated Average Burden per Respondent: 60 minutes.

Frequency of Response: Annual.

Estimated Number of Respondents: 33,335.

By direction of the Secretary.
Dorothy Glasgow,
VA PRA Clearance Officer, (Alt.), Office of Enterprise and Integration/Data Governance Analytics, Department of Veterans Affairs.

[FR Doc. 2023-14448 Filed 7-7-23; 8:45 am]

BILLING CODE 8320-01-P